GENERAL SERVICES ADMINISTRATION

[Notice-PBS-2022-04; Docket No. 2022-0002; Sequence No. 18]

Notice of Availability for the Draft Environmental Assessment for the Calexico West Land Port of Entry Temporary Pedestrian Process Facility Calexico, California

AGENCY: Public Buildings Service (PBS), General Services Administration (GSA).

ACTION: Notice.

SUMMARY: This notice announces the availability, and opportunity for public review and comment of a Draft Environmental Assessment (EA), which examines the potential impacts of a proposal by GSA for construction of a temporary pedestrian processing facility adjacent to the Historic Customs House, and interior renovation of the Historic Customs House at 340 East 1st Street, Calexico, California. The facility and structures will be used by the United States Customs and Border Protection. The Draft EA describes the purpose and need for the proposed project; the alternatives considered; the potential impacts of the alternatives on the existing environment; and the proposed avoidance, minimization, and/or mitigation measures associated to these alternatives and resources.

DATES: Agencies and the public are encouraged to provide written comments on the Draft EA. The 30-day public comment period for the Draft EA ends on Monday, September 26, 2022. A virtual public meeting will be held on Tuesday, August 23, 2022, 4 p.m. to 5 p.m. Pacific standard time at: https://teams.microsoft.com/l/meetup-join/19%3ameeting_ODlmYmFiOWMtM2EwOS00MTVlLWJhY2EtYWZiMWJiZGYxNDdl%40thread.v2/0?context=%7b%22Tid%22%3a%228aec2bf0-04af-4841-bcf6-bac6a58dd4ef%22%2c%22Oid%22%3a%221894920d-2cd7-4a1a-aa78-0ebeddc5bdf6%22%7d.

ADDRESSES: Further information, including an electronic copy of the Draft EA may be found online on the following website: https://www.gsa.gov/about-us/regions/welcome-to-the-pacific-rim-region-9/land-ports-of-entry/calexico-west-land-port-of-entry.

Questions or comments concerning the Draft EA should be directed to Osmahn Kadri, EPA Program Manager, General Services Administration via email: osmahn.kadri@gsa.gov or Ms. Bianca Rivera, 355 South Euclid Avenue, Suite 107, Tucson, AZ 85719 via postal mail/commercial delivery.

FOR FURTHER INFORMATION CONTACT: Mr. Osmahn A. Kadri, NEPA Program Manager, General Services Administration, Pacific Rim Region, at 415-522-3617 or email osmahn.kadri@gsa.gov. Please call this number if special assistance is needed to attend and participate in the public meeting.

SUPPLEMENTARY INFORMATION:

Background

The Project is located adjacent to the Historic Customs House at 340 East 1st Street, Calexico, California. The Project is proposed to provide a temporary pedestrian processing facility for use during the demolition of existing structures and construction of the new processing building while ensuring continued services to those utilizing the international crossing between the United States of American and Mexico. The temporary facility is anticipated to be constructed on Heffernan Road, south of East 1st street, to the west of the Historic Customs House. The facility will require the acquisition of Heffernan Road, to the south of East 1st Street. The building will be approximately 8,804 square feet and include a fire lane to the west, pedestrian ramps leading to/from the building, and pedestrian pick-up and drop-off areas at the north side of the building. The interior building will include wait areas, administrative offices, property storage interview rooms, inspection areas, processing areas, and restrooms.

This Draft Environmental Assessment was prepared pursuant to the National Environmental Policy Act of 1969 (NEPA)(Pub. L. 91-190) and the Council on Environmental Quality Regulations implementing NEPA.

Alternatives Under Consideration

The EA will consider one Action Alternative (the Proposed Action) and the No Action Alternative. The Action Alternative would consist of the construction of the temporary processing facility and associated infrastructure. The Project is proposed to provide a temporary pedestrian processing facility for use during the demolition of existing structures and construction of the new processing building while ensuring continued services to those utilizing the international crossing between the United States of American and Mexico. The temporary facility is anticipated to be constructed on Heffernan Road, south of East 1st street, to the west of the Historic Customs House. Even though the facility is temporary, the project will require the permanent acquisition of Heffernan Road, to the south of East 1st Street, removing the parking/pick up area. The building will be approximately 8,804 square feet and include a fire lane to the west, pedestrian ramps leading to/from the building, and pedestrian pick-up and drop-off areas at the north side of the building. The interior building will include wait areas, administrative offices, property storage interview rooms, inspection areas, processing areas, and restrooms. Since the facility is temporary, there would be no change in personnel staffing at this port of entry. Construction is likely to impact parking and loading/unloading merchandise for the retail facility to the west of the proposed facility, as well as traffic flow along East 1st Street during construction.

Under the No Action Alternative the construction of the temporary facilities, construction of the ramp, and renovations within the existing Historic Customs House would not occur.

Russell Larson,
Director, Portfolio Management Division, Pacific Rim Region, Public Buildings Service.

[FR Doc. 2022-17923 Filed 8-18-22; 8:45 am]

BILLING CODE 6820-YF-P